CONSUMER FINANCIAL PROTECTION BUREAU

Open Call for Credit Card Price and Availability Data From Credit Card Issuers

AGENCY: Consumer Financial Protection Bureau.

ACTION: Open call for credit card price and availability data from credit card issuers.

SUMMARY: The Consumer Financial Protection Bureau (CFPB) is publishing this notice to advise credit card issuers that they may voluntarily submit credit card price and availability data through the CFPB's Terms of Credit Card Plans (TCCP) Survey.

FOR FURTHER INFORMATION CONTACT: Sarah Schwartzberg, Office of Markets, at 202-435-7000 or CFPB_collect_support@cfpb.gov. If you require this document in an alternative electronic format, please contact CFPB_Accessibility@cfpb.gov.

SUPPLEMENTARY INFORMATION: When shopping online or in a brick-and-mortar store, people like to weigh the costs and benefits of different products before they make a purchase, but this can be a challenge for consumers seeking to compare interest rates across credit cards.¹ The lack of transparency in credit card terms and conditions is not new. In 1988, Congress passed the Fair Credit and Charge Card Disclosure Act to provide for a more detailed and uniform disclosure of credit card rates and fees by issuers.

¹ Consumer Fin. Prot. Bureau, Examining the factors driving high credit card interest rates (Aug. 12, 2022), https://www.consumerfinance.gov/about-us/blog/examining-the-factors-driving-high-credit-card-interest-rates/.

Twice per year, at least 150 credit card issuers submit information to the CFPB on their largest credit card plans, including interest rates and fees, through our TCCP Survey.² This notice is part of our efforts to invite a broader range of credit card issuers to contribute information on their credit card offerings to this data set. Our goal is to spur competition and give Americans the power to shop around and choose the best credit card for their needs. This open call is just one step in our plan to update the TCCP Survey to make it a more useful resource on credit card price and availability for consumers.

² Consumer Fin. Prot. Bureau, Terms of Credit Card Plans (TCCP) survey, https://www.consumerfinance.gov/data-research/credit-card-data/terms-credit-card-plans-survey/.

Credit card issuers are invited to voluntarily contribute credit card price and availability data. Get started now: https://www.consumerfinance.gov/data-research/credit-card-data/terms-credit-card-plans-survey/.

Rohit Chopra,
Director, Consumer Financial Protection Bureau.

[FR Doc. 2024-31229 Filed 12-27-24; 8:45 am]

BILLING CODE 4810-AM-P